DEPARTMENT OF ENERGY

Federal Energy Regulatory Commission

[Docket No. RP04-131-000]

Florida Gas Transmission Company; Notice of Filing of Annual Report

January 7, 2004.

Take notice that on December 31, 2003, Florida Gas Transmission Company (FGT) tendered for filing, pursuant to section 19.1 of the General Terms and Conditions (GTC) of its FERC Gas Tariff, Third Revised Volume No. 1, schedules detailing certain information related to its Cash-Out Mechanism, Fuel Resolution Mechanism and Balancing Tools charges for the accounting months October 2002 through September 2003. No tariff changes are proposed.

FGT states that it has recorded excess revenues of $2,036,432 during the current Settlement Period, which when combined with the $4,373,252 net deficiency carried forward from the preceding Settlement Period and interest of $224,230, result in a cumulative net cost balance of $2,561,050 as of September 30, 2003.

Any person desiring to be heard or to protest said filing should file a motion to intervene or a protest with the Federal Energy Regulatory Commission, 888 First Street, NE., Washington, DC 20426, in accordance with sections 385.214 or 385.211 of the Commission's rules and regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Comment Date: January 14, 2004.

Magalie R. Salas,
Secretary.

[FR Doc. E4-59 Filed 01-14-04; 8:45 am]

BILLING CODE 6717-01-P